DEPARTMENT OF COMMERCE

National Oceanic and Atmospheric Administration

Draft Revised Management Plan for the Mission-Aransas National Estuarine Research Reserve

AGENCY: Office for Coastal Management (OCM), National Ocean Service (NOS), National Oceanic and Atmospheric Administration (NOAA), U.S. Department of Commerce (DOC).

ACTION: Request for comments on draft revised management plan.

SUMMARY: The National Oceanic and Atmospheric Administration (NOAA) is soliciting comments from the public regarding a proposed revision of the management plan for the Mission-Aransas National Estuarine Research Reserve. The management plan provides a framework for the direction and timing of a reserve's programs; allows reserve managers to assess a reserve's success in meeting its goals and to identify any necessary changes in direction; and is used to guide programmatic evaluations of the reserve. Plan revisions are required of each reserve in the National Estuarine Research Reserve System at least every five years. This revised plan is intended to replace the plan approved in 2015.

DATES: Comments must be received on or before August 2, 2021.

ADDRESSES: Comments may be submitted by:

• Electronic Submission: Submit all electronic public comments by email to matt.chasse@noaa.gov and jace.tunnell@austin.utexas.edu. Include “Comments on draft Mission-Aransas Management Plan” in the subject line of the message.

Instructions: The draft revised management plan can be downloaded or viewed at: http://missionaransas.org/about/management-plan. The document is also available by sending a written request to the point of contact identified below under For Further Information.

FOR FURTHER INFORMATION CONTACT: Matt Chasse, NOAA Office for Coastal Management, matt.chasse@noaa.gov, or 410-570-1020.

SUPPLEMENTARY INFORMATION:

Background

Pursuant to 15 CFR 921.33(c), a state must revise the management plan for the research reserve at least every five years. If approved by NOAA, the Mission-Aransas Reserve's revised plan will replace the plan previously approved in 2015.

The draft revised management plan outlines strategic goals and objectives and the administrative structure, as well as programs or plans for conducting research and environmental monitoring, education, and training; volunteer management, communications, and resource protection; public access and visitor use; restoration and resource manipulation; and considerations for future land acquisition and facility development to support reserve operations.

In particular, this draft plan describes how reserve programs will address specific goals. These goals include the advancement and dissemination of scientific knowledge about Texas coastal ecosystems; increasing the understanding, appreciation, and stewardship of coastal ecosystems; the conservation, protection, and restoration of Texas coastal habitats and wildlife; establishing and nurturing partnerships to promote and advance coastal research, management, and community resiliency and literacy; recognition of staff and volunteer contributions; and maintaining strong facilities that build capacity and enrich programs.

The revised management plan builds upon past successes and accomplishments and is designed to address specific priority coastal management issues. The priority issues for research and monitoring include marine debris, industrial growth impacts, eDNA, freshwater inflow, biological monitoring, and sea level rise and coastal subsidence. For education and training, priorities to be addressed include connecting children and nature; outdoor education programming, climate change and its effects on coastal environments; coastal ecology and habitat diversity; marine debris and its impacts on the coastal environment; and stewardship of estuarine and coastal resources. These issues align with the 2017-2022 National Estuarine Research Reserve System's strategic plan.

Since its inception, this reserve has engaged in strategic partnerships with its land managing partners and others based on mutual interests. These partnerships are expected to be maintained or expanded through the revised management plan including reserve administration of the Amos Rehabilitation Keep (ARK), providing animal rehabilitation services for species endemic to the estuary. The reserve is also planning to maintain and improve reserve facilities including Fennessey Ranch, the Bay Education Center, the ARK, and the Patton Marine Science Education Center. Additionally, no boundaries changes are incorporated into the revised management plan. The revised management plan, once approved, would serve as the guiding document for the 186,189-acre research reserve for the next five years.

NOAA's Office for Coastal Management analyzes the environmental impacts of the proposed approval of this draft revised management plan in accordance with section 102(2)(C) of the National Environmental Policy Act of 1969, as amended, 42 U.S.C. 4332(2)(C), and the Council on Environmental Quality Regulations for Implementing the Procedural Provisions of NEPA (40 CFR 1500-1508). The public is invited to comment on the draft revised management plan. NOAA will take these comments into consideration in deciding whether to approve the draft revised management plan in whole or in part.

Authority: 16 U.S.C. 1451 et seq.; 15 CFR 921.33.

Keelin S. Kuipers,
Deputy Director, Office for Coastal Management, National Ocean Service, National Oceanic and Atmospheric Administration.

[FR Doc. 2021-14042 Filed 6-30-21; 8:45 am]

BILLING CODE 3510-NK-P